DEPARTMENT OF TRANSPORTATION

Pipeline and Hazardous Materials Safety Administration

49 CFR Parts 171, 173, and 178

[Docket No. PHMSA-2015-0271 (HM-261)]

RIN 2137-AF15

Hazardous Materials: Incorporation by Reference Edition Update for the American Society of Mechanical Engineers Boiler and Pressure Vessel Code and Transportation Systems for Liquids and Slurries: Pressure Piping Code

AGENCY: Pipeline and Hazardous Materials Safety Administration (PHMSA), Department of Transportation (DOT).

ACTION: Direct final rule.

SUMMARY: This direct final rule incorporates by reference the most recent editions of the ASME Boiler and Pressure Vessel Code. The purpose of this update is to enable non-specification (nurse tank) manufacturers and other DOT and UN specification packaging manufacturers to utilize current technology, materials, and practices to help maintain a high level of safety. PHMSA is replacing the ASME referenced standard (1998 Edition) with the new, current ASME standard (2015 Edition) for boiler and pressure vessels. PHMSA is also replacing the ASME 1998 Edition referenced standard of ASME's Transportation Systems for Liquids and Slurries: Pressure Piping to the current 2012 Edition.

DATES: Effective Date: This rule is effective June 28, 2016 without further action, unless adverse comment is received by May 31, 2016. If adverse comment or notice of intent to file an adverse comment is received, PHMSA will publish a timely withdrawal of the rule in whole or in part in the Federal Register before June 13, 2016.

Incorporation by reference approval date: The incorporation by reference of certain publications listed in this rule is approved by the Director of the Federal Register as of [insert date 60 days after publication in the Federal Register].

ADDRESSES: Comments should reference DOT Docket ID Number PHMSA-2015-0271 and may be submitted by any of the following methods:

• Federal Rulemaking Portal: http://www.regulations.gov. This Web site allows the public to enter comments on any Federal Register notice issued by any agency. Follow the online instructions for submitting comments.

• Fax: 1-202-493-2251

• Mail: Docket Management System; U.S. Department of Transportation, Docket Operations, M-30, Ground Floor, Room W12-140, 1200 New Jersey Avenue SE., Washington, DC 20590-0001

• Hand Delivery: To U.S. Department of Transportation, Docket Operations, M-30, Ground Floor, Room W12-140, 1200 New Jersey Avenue SE., Washington, DC 20590-0001, between 9 a.m. and 5 p.m. ET, Monday through Friday, except Federal holidays.

Instructions: Include the agency name and docket number PHMSA-2015-0271 or RIN 2137-AF15 for this rulemaking at the beginning of your comment. Note that all comments received will be posted without change to http://www.regulations.gov including any personal information provided. If sent by mail, comments must be submitted in duplicate. Persons wishing to receive confirmation of receipt of their comments must include a self-addressed stamped postcard. This rule is unrelated to PHMSA's Proposed Rule “Hazardous Materials: Adoption of ASME Code Section XII and the National Board Inspection Code” (docket number PHMSA-2010-0019; RIN 2137-AE37).

Privacy Act: Anyone is able to search the electronic form of any written communications and comments received into any of our dockets by the name of the individual submitting the document (or signing the document, if submitted on behalf of an association, business, labor union, etc.), as described in the system of records notice (DOT/ALL-14 FDMS), which can be reviewed at www.dot.gov/privacy.

Docket: You may view the public docket through the Internet at http://www.regulations.gov or in person at the Docket Operations office at the above address (See ADDRESSES).

FOR FURTHER INFORMATION CONTACT: Alex B. Mitchell, Office of Chief Counsel, Pipeline and Hazardous Materials Safety Administration; telephone 202-366-4400; email Alex.Mitchell@dot.gov.

SUPPLEMENTARY INFORMATION:

Authority for This Rulemaking

This direct final rule is published under authority of the Federal Hazardous Materials Transportation Law under 49 U.S.C. 5101 et seq. Section 5103(b) of Federal Hazmat Law authorizes the Secretary of Transportation to prescribe regulations for the safe transportation, including security, of hazardous materials in intrastate, interstate, and foreign commerce. The National Technology Transfer and Advancement Act of 1995 mandates that all federal agencies use technical standards developed and adopted by voluntary consensus standards bodies. The guidelines used by agencies to assess and report their conformity with the requirements of the Act are detailed in Office of Budget and Management (OMB) Circular No. A-119, entitled “Federal Participation in the Development and Use of Voluntary Consensus Standards and in Conformity Assessment Activities.” OMB Circular No. A-119 recognizes that the vibrancy and effectiveness of the U.S. standards system in enabling innovation depends on continued private sector leadership and engagement.

This rulemaking is a Direct Final Rule under PHMSA's rulemaking authority outlined in 49 CFR 106.40 to incorporate by reference the latest edition of a technical/industry standard. PHMSA has determined that this direct final rule is not a “significant regulatory action” as defined in section 3(f) of Executive Order 12866, and is not “significant” as defined in DOT's Regulatory Policies and Procedures. This rulemaking is exempt from the Office of Management and Budget review in accordance with Executive Order 12866.

The Direct Final Rule Procedure

PHMSA is issuing this direct final rule without prior notice and prior public comment. The Administrative Procedure Act provides that an agency may publish a final rule without prior notice and comment if the agency for good cause finds that the notice and comment procedure is unnecessary (49 U.S.C. 553(b)(B)). This rule will not make any significant substantive changes to the Hazardous Materials Regulations. Accordingly, PHMSA does not foresee adverse comments in response to this rulemaking, and consequently a 30-day notice and comment period is reasonable.

The Regulatory Policies and Procedures of the Department of Transportation (DOT), 44 FR 1134, February 26, 1979, provide that to the maximum extent possible, operating administrations for the DOT should provide an opportunity for public comment on regulations issued without prior notice. Accordingly, PHMSA invites interested persons to participate in this rulemaking by submitting written comments. The agency also invites comments relating to the economic, environmental, energy, or federalism impacts that might result from adopting this final rule.

This direct final rule will take effect as indicated above unless PHMSA receives an adverse comment or notice of intent to file an adverse comment within the comment period. An adverse comment explains why a rule would be inappropriate or would be ineffective or unacceptable without a change. It may challenge the rule's underlying premise or approach. Under the direct final rule process, we do not consider the following types of comments to be adverse:

(1) A comment recommending another rule change, in addition to the change in the direct final rule at issue, unless the commenter states why the direct final rule would be ineffective without the change.

(2) A frivolous or irrelevant comment.

If we receive an adverse comment or notice of intent to file an adverse comment, we will advise the public by publishing a document in the Federal Register before the effective date of the final rule. This document may withdraw the direct final rule in whole or in part. If we withdraw the direct final rule because of an adverse comment, we may incorporate the adverse comment into another direct final rule or may publish a notice of proposed rulemaking.

See the “Additional Information” section for information on how to comment on this direct final rule and how PHMSA will handle comments received. The “Additional Information” section also contains related information about the docket, privacy, and the handling of proprietary or confidential business information. There is also information on obtaining copies of related rulemaking documents.

I. Background

This direct final rule adopts the most recent edition of a consensus technical standard, the American Society of Mechanical Engineers (ASME) Boiler and Pressure Vessel Code (2015 Edition) and ASME Code for Transportation Systems for Liquids and Slurries: Pressure Piping, B31.4-2012. The Boiler and Pressure Vessel Code enables nurse tank manufacturers and other DOT and UN specification packaging manufacturers to use current technology, materials, and practices. The incorporation of the most recent edition of the ASME Code improves clarity, consistency, accuracy, reduces unnecessary burdens on the regulated community, and will provide, at minimum, an equivalent level of safety for non-specification (nurse tanks) and specification tanks regulated under the Hazardous Materials Regulations (HMR). PHMSA is replacing the 1998 Edition of ASME Boiler and Pressure Vessel Code Sections with the following, current 2015 Edition of ASME Boiler and Pressure Vessel Code Sections:

• Section II—Materials—Part A—Ferrous Materials Specifications

• Section II—Materials—Part B—Nonferrous Material Specifications

• Section V—Nondestructive Examination

• Section VIII—Rules for Construction of Pressure Vessels Division 1

• Section IX—Welding, Brazing, and Fusing Qualifications

PHMSA is also replacing the 1998 Edition of ASME B31.4-1998 Edition, Pipeline Transportation Systems for Liquid Hydrocarbons and other Liquids with the following, current 2012 Edition of ASME B31.4-2012, now titled Pipeline Transportation Systems for Liquids and Slurries as it relates to 49 CFR 173.5a “Oilfield service vehicles, mechanical displacement meter provers, and roadway striping vehicles exceptions.”

For full access to these Sections, please see http://go.asme.org/PHMSA-ASME. PHMSA is aware that industry is already manufacturing nurse tanks and other specification cargo tanks in accordance with various ASME Editions between 1998 and 2015, and PHMSA is not aware of any adverse safety issues, as long as tanks have been properly built in accordance with ASME Editions. PHMSA recognizes the safety and validity of these ASME Editions published after the 1998 Edition as related to this rulemaking. This update will increase PHMSA's ability to ensure compliance with the 2015 ASME Edition related to non-specification (nurse tanks) and specification cargo tanks and with the 2012 ASME edition related to mechanical displacement meter provers.

Standards Incorporated by Reference

The National Technology Transfer and Advancement Act of 1995 (Pub. L. 104-113) directs Federal agencies to use voluntary consensus standards in lieu of government-written standards whenever possible. Voluntary consensus standards are standards developed or adopted by voluntary bodies that develop, establish, or coordinate technical standards using agreed upon procedures.

PHMSA's Office of Hazardous Materials Safety adopts 187 voluntary consensus standards issued by 27 different technical organizations, and the Office participates in numerous national voluntary consensus standards committees. PHMSA adopts voluntary consensus standards applicable to packaging design, construction, maintenance, inspection, and repair when they are consistent with the safe transportation of hazardous materials. PHMSA reviews and approves for incorporation by reference updated versions based on this directive. When PHMSA believes some aspect of a standard does not meet an adequate level of safety, it will not incorporate the standard or the part of the standard that it believes is contradictory with the directive.

Parts 171 through 180 incorporate by reference all or parts of standards and specifications developed and published by technical organizations, as referenced in 49 CFR 171.7, including, but not limited to, the American Petroleum Institute, American Society of Mechanical Engineers, American Society for Testing and Materials, Compressed Gas Association, International Organization for Standardization, Organization for Economic Cooperation and Development, and the United Nations. These organizations update and revise their published standards periodically to reflect modern technology and best technical practices. PHMSA has reviewed the revised voluntary consensus standards being incorporated in this final rule.

New Edition of Standards

2015 Edition of the American Society of Mechanical Engineers Boiler and Pressure Vessel Code

• Section II—Materials—Part A—Ferrous Materials Specifications

• Section II—Materials—Part B—Nonferrous Material Specifications

Parts A and B of Section II are “Service Sections” to the other Sections of the Boiler and Pressure Vessel Code, and they provide material specifications for ferrous and nonferrous materials adequate for safety in the field of pressure equipment. These specifications contain requirements for chemical and mechanical properties, heat treatment, manufacture, heat and product analyses, and methods of testing.

• Section V—Nondestructive Examination

Section V contains requirements and methods for nondestructive examination, which are referenced and required by other Sections. It also includes manufacturers' examination responsibilities, duties of authorized inspectors and requirements for qualification of personnel, inspection and examination.

• Section VIII—Rules for Construction of Pressure Vessels, Division 1

Section VIII, Division 1 provides requirements applicable to the design, fabrication, inspection, testing, and certification of pressure vessels operation at either internal or external pressures exceeding 15 psig. Division 1 also contains mandatory and non-mandatory appendices detailing supplementary design criteria, nondestructive examination and inspection acceptance standards.

• Section IX—Welding, Brazing, and Fusing Qualifications

Section IX contains rules relating to the qualification of welding, brazing, and fusing procedures as required by other Sections for component manufacture. It also covers rules relating to the qualification and requalification of welders, brazers, and welding, brazing and fusing machine operators in order that they may perform welding, brazing, or plastic fusing as required by other Sections in the manufacture of components.

The above editions of currently referenced standards are being incorporated by reference in 49 CFR 171.7, 173.315, and 178.338-3. These new Editions refine and clarify existing material in the standard and generally do not introduce new topics.

2012 Edition of the American Society of Mechanical Engineers Pipeline Transportation Systems for Liquids and Slurries, ASME B31.4-2012

• This Edition covers piping and transporting liquids between production facilities, tank farms, natural gas processing plants, refineries, pump stations, ammonia plants, terminals (marine, rail, and truck), and other delivery and receiving points.

The above standard is being incorporated by reference in 49 CFR 173.5a. This Edition refines and clarifies existing material in the standard and generally does not introduce new topics as related to mechanical displacement meter provers. PHMSA is not seeking or accepting comments on the unrelated, Proposed Rule entitled “Hazardous Materials: Adoption of ASME Code Section XII and the National Board Inspection Code” (docket number PHMSA-2010-0019; RIN 2137-AE58). This rulemaking also has no impact on or relation to the Pipeline Safety Regulations at 49 Code of Federal Regulations Part 190-199.

Incorporation By Reference Discussion Under 1 CFR Part 51

The 2015 Edition of the American Society of Mechanical Engineers Boiler and Pressure Vessel Code and the 2012 Edition of the American Society of Mechanical Engineers Pipeline Transportation Systems for Liquids and Slurries are freely accessible to the public for the full 30 day comment period online at http://go.asme.org/PHMSA-ASME. In addition, all Sections of the 2015 Edition of the Boiler and Pressure Vessel Code are available for purchase directly from ASME online at https://www.asme.org/shop/standards#des=BPVC and the 2012 Edition of the American Society of Mechanical Engineers Pipeline Transportation Systems for Liquids and Slurries is available for purchase directly from ASME online at https://www.asme.org/products/codes-standards/b314-2012-pipeline-transportation-systems-liquid. Members of the public may access hard copies of standards incorporated by reference at PHMSA's Hazardous Materials Information Center (HMIC) at the Department of Transportation Headquarters in Washington, DC. Members of the public may make arrangements to visit the HMIC by visiting HMIC's Web site at http://www.phmsa.dot.gov/hazmat/standards-rulemaking/hmic or by telephone at 800-467-4922. PHMSA staff will work directly with any person requesting access to these standards.

PHMSA believes the majority of industry nurse tank manufacturers and other DOT and UN specification packaging manufacturers has already purchased and therefore possess and adhere to these standards in order to be certified under ASME's various certification programs. For example, products manufactured by ASME BPVC Certificate Holders are certified and stamped with a Certification Mark in accordance with the applicable ASME BPVC Section. According to ASME, there are currently more than 6,800 Certificate Holders in the ASME BPVC Certification Program. For more information on ASME's Certification Programs, please see https://www.asme.org/shop/certification-and-accreditation/boiler-and-pressure-vessel-certification.

II. Regulatory Notices and Analyses

A. Regulatory Flexibility Determination and Executive Order 13272

Under the Regulatory Flexibility Act (5 U.S.C. 601 et seq.), PHMSA is required to consider whether rulemaking actions would have a significant economic impact on a substantial number of small entities. This direct final rule ensures that manufacturers are able to use the most current editions of technical standards incorporated by reference. PHMSA concludes this rule does not have a significant negative economic impact on any small entity. Based on the facts available about the expected impact of this rulemaking, PHMSA certifies under Section 605 of the Regulatory Flexibility Act (5 U.S.C. 605) that this rulemaking will not have a significant economic impact on a substantial number of small entities.

B. Paperwork Reduction Act

There are no new information collection requirements in this direct final rule.

C. Unfunded Mandates Assessment

This direct final rule does not impose unfunded mandates under the Unfunded Mandates Reform Act of 1995. It does not result in costs of $155,000,000 or more, adjusted for inflation, to either State, local or tribal governments, in the aggregate, or to the private sector in any one year, and is the least burdensome alternative that achieves the objective of the rule.

D. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

E. Environmental Analysis

The National Environmental Policy Act of 1969 (NEPA), as amended (42 U.S.C. 4321-4347), requires Federal agencies to consider the consequences of major federal actions and to prepare a detailed statement on any action that significantly affects the quality of the human environment. Since these new standards provide, at minimum, an equivalent level of protection to the currently referenced standards, it is unlikely that the adoption of these standards will have any impact on the environment. We find that there are no significant environmental impacts associated with this direct final rule. PHMSA invites comments about environmental impacts that could result from this direct final rule.

III. Executive Order Determinations

A. Executive Order 13132, Federalism

PHMSA has analyzed the direct final rule according to Executive Order 13132 (64 FR 43255). This direct final rule does not have a substantial direct effect on the States, the relationship between the national government and the States, or the distribution of power and responsibilities among the various levels of government. The direct final rule does not impose substantial direct compliance costs on State and local governments. Therefore, the consultation and funding requirements of Executive Order 13132 do not apply.

B. Executive Orders 13563 and 12866 and DOT Policies and Procedures

This direct final rule is not a significant regulatory action under section 3(f) of Executive Order 12866 (58 FR 51735) and, therefore, was not subject to review by the Office of Management and Budget. This direct final rule is not significant under the Regulatory Policies and Procedures of the Department of Transportation (44 FR 11034).

In this direct final rule we are updating references to standards that are incorporated in the Hazardous Materials Regulations. These updates will enhance safety while reducing the compliance burden on the regulated industry. PHMSA welcomes public comments on potential costs and benefits of this regulatory action.

C. Executive Order 13175

This final rule has been analyzed in accordance with the principles and criteria contained in Executive Order 13175 (“Consultation and Coordination with Indian Tribal Governments”). Because the direct final rule does not significantly or uniquely affect the communities of the Indian tribal governments or impose substantial direct compliance costs, the funding and consultation requirements of Executive Order 13175 do not apply.

IV. Additional Information

A. Comments Invited

PHMSA invites interested persons to participate in this rulemaking by submitting written comments, data, or views. The agency also invites comments relating to the economic, environmental, energy, or federalism impacts that might result from adopting the rulemaking action in this document. The most helpful comments reference a specific portion of the rulemaking action, explain the reason for any recommended change, and include supporting data. To ensure the docket does not contain duplicate comments, commenters should send only one copy of written comments, or if comments are filed electronically, commenters should submit only one time.

PHMSA will file any comments it receives in the docket, as well as a report summarizing each substantive public contact with PHMSA personnel concerning this rulemaking. Before acting on this rulemaking action, PHMSA will consider all comments it receives on or before the closing date for comments. PHMSA will consider comments filed after the comment period has closed if it is possible to do so without incurring expense or delay. The agency may change this rulemaking action in light of the comments it receives.

B. Availability of Rulemaking Documents

An electronic copy of rulemaking documents may be obtained online by—

1. Searching the Federal eRulemaking Portal (http://www.regulations.gov);

2. Visiting the PHMSA's Regulations and Policies Web page at http://www.phmsa.dot.gov/hazmat/standards-rulemaking, or;

3. Accessing the Government Printing Office's Web page at http://www.gpo.gov/fdsys/.

Copies may also be obtained by sending a request to the U.S. Department of Transportation, West Building, Ground Floor, Room W12-140, 1200 New Jersey Avenue SE., Washington, DC 20590. Commenters must identify the docket or amendment number of this rulemaking.

All documents PHMSA considered in developing this rulemaking action may be accessed from the Internet through the Federal eRulemaking Portal referenced in item (1) above.

C. Where and When To File Comments

Send comments to PHMSA in either of the following ways:

(1) By mail to: Docket Management System, U.S. Department of Transportation, West Building, Ground Floor, Room W12-140, 1200 New Jersey Avenue SE., Washington, DC 20590-0001.

(2) Through the Internet at http://www.regulations.gov.

Make sure your comments reach by the deadline. We will consider late filed comments to the extent possible. For further guidance on required information for written comments, see 49 CFR 106.65.

D. Privacy Act Statement

Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78) or you may visit http://www.regulations.gov/search/footer/privacyanduse.jsp.

List of Subjects

49 CFR Part 171

Exports, Hazardous materials transportation, Hazardous Waste, Imports, Incorporation by reference, Reporting and recordkeeping requirements.

49 CFR Part 173

Hazardous materials transportation, Incorporation by reference, Packaging and containers, Radioactive materials, Reporting and recordkeeping requirements, Uranium.

49 CFR Part 178

Hazardous materials transportation, Incorporation by reference, Motor vehicle safety, Packaging and containers, Reporting and recordkeeping requirements.

In consideration of the foregoing, PHMSA is amending 49 CFR Chapter I, subchapter C, as follows:

PART 171—GENERAL INFORMATION, REGULATIONS, AND DEFINITIONS

1. The authority citation for part 171 continues to read as follows:

Authority: 49 U.S.C. 5101-5128, 44701; Pub. L. 101-410 section 4 (28 U.S.C. 2461 note); Pub. L. 104-134, section 31001; 49 CFR 1.81 and 1.97.

2. In § 171.7, paragraph (g) is revised to read as follows:

§ 171.7 Reference material.

* * * * *

(g) The American Society of Mechanical Engineers (ASME), 150 Clove Road, Little Falls, NJ 07424-2139, telephone 1-800-843-2763, http://www.asme.org.

(1) 2015 ASME Boiler and Pressure Vessel Code (ASME Code), 2015 Edition, July 1, 2015 (as follows), into §§ 172.102; 173.3; 173.5b; 173.24b; 173.306; 173.315; 173.318; 173.420; 178.255-1; 178.255-2; 178.255-14; 178.255-15; 178.273; 178.274; 178.276; 178.277; 178.320; 178.337-1; 178.337-2; 178.337-3; 178.337-4; 178.337-6; 178.337-16; 178.337-18; 178.338-1; 178.338-2; 178.338-3; 178.338-4; 178.338-5; 178.338-6; 178.338-13; 178.338-16; 178.338-18; 178.338-19; 178.345-1; 178.345-2; 178.345-3; 178.345-4; 178.345-7; 178.345-14; 178.345-15; 178.346-1; 178.347-1; 178.348-1; 179.400-3; 180.407:

(i) Section II—Materials—Part A—Ferrous Materials Specifications.

(ii) Section II—Materials—Part B—Nonferrous Material Specifications.

(iii) Section V—Nondestructive Examination.

(iv) Section VIII—Rules for Construction of Pressure Vessels Division 1.

(v) Section IX—Welding, Brazing, and Fusing Qualifications.

(2) ASME B31.4-2012, Pipeline Transportation Systems for Liquids and Slurries, November 12, 2012, into § 173.5a.

* * * * *

PART 173—SHIPPERS—GENERAL REQUIREMENTS FOR SHIPMENTS AND PACKAGINGS

3. The authority citation for part 173 continues to read as follows:

Authority: 49 U.S.C. 5101-5128, 44701; 49 CFR 1.81, 1.96 and 1.97.

4. In § 173.315, paragraph (m)(1)(i) is revised to read as follows:

§ 173.315 Compressed gases in cargo tanks and portable tanks.

* * * * *

(m) * * *

(1) * * *

(i) Has a minimum design pressure of 250 psig, meets the requirements of Section VIII of the ASME Code (IBR, see § 171.7 of this subchapter), and is marked with a valid ASME plate.

* * * * *

PART 178—SPECIFICATIONS FOR PACKAGINGS

5. The authority citation for part 178 continues to read as follows:

Authority: 49 U.S.C. 5101-5128; 49 CFR 1.81 and 1.97.

6. In § 178.338-3, paragraph (a) is revised to read as follows:

§ 178.338-3 Structural integrity.

(a) General requirements and acceptance criteria. (1) Except as permitted in paragraph (d) of this section, the maximum calculated design stress at any point in the tank may not exceed the lesser of the maximum allowable stress value prescribed in Section VIII of the ASME Code (IBR, see § 171.7 of this subchapter), or 25 percent of the tensile strength of the material used.

(2) The relevant physical properties of the materials used in each tank may be established either by a certified test report from the material manufacturer or by testing in conformance with a recognized national standard. In either case, the ultimate tensile strength of the material used in the design may not exceed 120 percent of the minimum ultimate tensile strength specified in either the ASME Code or the ASTM standard to which the material is manufactured.

(3) The maximum design stress at any point in the tank must be calculated separately for the loading conditions described in paragraphs (b), (c), and (d) of this section. Alternate test or analytical methods, or a combination thereof, may be used in lieu of the procedures described in paragraphs (b), (c), and (d) of this section, if the methods are accurate and verifiable.

(4) Corrosion allowance material may not be included to satisfy any of the design calculation requirements of this section.

* * * * *

Issued in Washington, DC, on April 25, 2016, under the authority delegated in 49 CFR part 1.
Marie Therese Dominguez,
Administrator, Pipeline and Hazardous Materials Safety Administration.

[FR Doc. 2016-10027 Filed 4-28-16; 8:45 am]

BILLING CODE 4910-60-P